FEDERAL COMMUNICATIONS COMMISSION

Notice of Public Information Collection(s) Being Reviewed by the Federal Communications Commission

May 22, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 29, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0206.

Title: Part 21, Multipoint Distribution Service Stations.

Form No.: N/A.

Type of Review: Revision of a currently approved collection.

Respondents: Businesses or other for-profit.

Number of Respondents: 15,858.

Estimated Time Per Response: .083 hours—6 hours.

Frequency of Response: On occasion and annual reporting requirements, third party disclosure requirement, and recordkeeping requirement.

Total Annual Burden: 10,221 hours.

Total Annual Cost: $1,244,300.

Needs and Uses: The information requested in part 21 is used by the Commission staff to fulfill its obligations as set forth in Sections 308 and 309 of the Communications Act of 1934, as amended. The information is used to determine the technical, legal and other qualifications of applicants to operate a station in MDS. The information is also used to determine whether grant of an application will serve the public interest, convenience and necessity. The FCC staff uses the information to ensure that applicants and licensees comply with the ownership and transfer restrictions imposed by Section 310 of the Act.

The information collection has been revised due to suspension of the EEO rules. The increase in public costs is due to an estimated increase in the various requirements of Part 21.

OMB Control No.: 3060-0717.

Title: Billed Party Preference for InterLATA 0+ Calls, CC Docket No. 92-77 (47 CFR 64.703(a), 64.709, and 64.710).

Form No.: N/A.

Type of Review: Extension of a currently approved collection.

Respondents: Businesses or other for-profit.

Number of Respondents: 1,500 respondents; 1,2000,000,000 responses.

Estimated Time Per Response: 2 seconds per call—50 hours.

Frequency of Response: On occasion and annual reporting requirements, third party disclosure requirement.

Total Annual Burden: 699,157 hours.

Total Annual Cost: $216,000.

Needs and Uses: Pursuant to Section 64.703(a), Operator Service Providers (OSP's) are required to disclose, audibly and distinctly to the consumer, at no charge and before connecting any interstate call, how to obtain rate quotations, including any applicable surcharges. Section 64.709 codifies the requirements for OSP's to file informational tariffs with the Commission. Section 64.710 requires providers of interstate operator services to inmates at correctional institutions to identify themselves, audibly and distinctly, to the party to be billed, among other things.

Federal Communications Commission.
Magalie Roman Salas,
Secretary.

[FR Doc. 01-13456 Filed 5-29-01; 8:45 am]

BILLING CODE 6712-01-P